SMALL BUSINESS ADMINISTRATION

Wisconsin District Advisory Board; Public Meeting

The U.S. Small Business Administration advisory board will hold a public meeting on Wednesday, April 17, 2002. The Wisconsin Advisory Council meeting will take place at the Metro Milwaukee Association of Commerce building located at 756 North Milwaukee Street 4th floor, Milwaukee, Wisconsin. The time set forth is 12 noon to 1 pm. The purpose for this meeting will be to discuss such matters as may be presented by members, staff of the U.S. Small Business Administration or others present. For further information, please write or call Yolanda Staples-Lassiter, U.S. Small Business Administration, 310 West Wisconsin Ave., Suite 400, Milwaukee, Wisconsin 53202; telephone number (414) 297-1090.

The public is invited.

Steve Tupper,
Committee Management Officer.

[FR Doc. 02-8219 Filed 4-4-02; 8:45 am]

BILLING CODE 8025-01-P